DEPARTMENT OF HEALTH AND HUMAN SERVICES

Centers for Medicare & Medicaid Services

[Document Identifier: CMS-10053, CMS-P-0015A, and CMS-367]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Paid Feeding Assistants in Long Term Care Facilities and Supporting Regulations at 42 CFR 483.160. Use: 42 CFR 483 permits long-term care facilities to use paid feeding assistants to supplement the services of certified nurse aides. If facilities choose this option, feeding assistants must complete a specified training program. In addition, a facility must maintain a record of all individuals, used by the facility as feeding assistants, who have successfully completed the training course for paid feeding assistants. This information is used as part of the process to determine facility compliance with this requirement. Form Number: CMS-10053 (OMB#: 0938-0916); Frequency: Recordkeeping—Once; Affected Public: Business or other for-profit and not-for-profit institutions; Number of Respondents: 8,772; Total Annual Responses: 3,509; Total Annual Hours: 21,054.

2. Type of Information Collection Request: Extension of a currently approved collection; Title of Information Collection: Medicare Current Beneficiary Survey (MCBS): Rounds 48-56. Use: The Medicare Current Beneficiary Survey (MCBS) is a continuous, multipurpose survey of a nationally representative sample of aged, disabled, and institutionalized Medicare beneficiaries. MCBS, which is sponsored by the Centers for Medicare & Medicaid Services, is the only comprehensive source of information on the health status, health care use and expenditures, health insurance coverage, and socioeconomic and demographic characteristics of the entire spectrum of Medicare beneficiaries. MCBS data users can assess the impact of major policy innovations and health care reform on Medicare beneficiaries. They can monitor delivery of services, sources of payment for Medicare covered and non-covered services, beneficiary cost sharing and financial protection, and satisfaction with and the access to health care services. Form Number: CMS-P-0015A (OMB#: 0938-0568); Frequency: Third Party Disclosure, Recordkeeping, and Reporting—Yearly; Affected Public: Individuals or households, Business or other for-profit and not-for-profit institutions; Number of Respondents: 49,500; Total Annual Responses: 49,500; Total Annual Hours: 50,325.

3. Type of Information Collection Request: Revision of a currently approved collection; Title of Information Collection: Medicaid Drug Program Monthly Quarterly Drug Reporting Format. Use: Section 1927 of the Social Security Act requires drug manufacturers to enter into and have in effect a rebate agreement with the Federal government for States to receive funding for drugs dispensed to Medicaid beneficiaries. The Deficit Reduction Act (DRA) of 2005 modified Section 1927 to require additional reporting requirements beyond the quarterly data currently collected. CMS form 367 identifies the data fields that manufacturers must submit to CMS on both a monthly and quarterly basis. Form Number: CMS-367 (OMB#: 0938-0578); Frequency: Reporting: Monthly and quarterly; Affected Public: Business or other for-profit; Number of Respondents: 540; Total Annual Responses: 8,460; Total Annual Hours: 112,320.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on January 23, 2007. CMS, Office of Strategic Operations and Regulatory Affairs, Division of Regulations Development—B, Attention: William N. Parham, III, Room C4-26-05, 7500 Security Boulevard, Baltimore, Maryland 21244-1850.

Dated: November 15, 2006.
Michelle Shortt,
Director, Regulations Development Group, Office of Strategic Operations and Regulatory Affairs.

[FR Doc. E6-19779 Filed 11-22-06; 8:45 am]

BILLING CODE 4120-01-P